ENVIRONMENTAL PROTECTION AGENCY

[ER-FRL-8996-6]

Environmental Impacts Statements; Notice of Availability

Responsible Agency: Office of Federal Activities, General Information (202) 564-1399 or http://www.epa.gov/compliance/nepa/.

Weekly receipt of Environmental.

Impact Statements Filed 04/18/2011 Through 04/22/2011.

Pursuant to 40 CFR 1506.9.

NOTICE:

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its website at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20110128, Revised Draft EIS, USFS, CO, Colorado Roadless Areas Rulemaking, Proposal To Establish Regulatory Direction for Managing Approximately 4.2 million Acres of Roadless Areas, Arapaho and Roosevelt; Grand Mesa, Uncompahgre, and Gunnison; Manti-La Sal (portion in Colorado); Pike and San Isabel; Rio Grande; Routt; San Juan; and White River National Forests, CO, Comment Period Ends: 07/14/2011, Contact: Pam Skeels 303-275-5152

EIS No. 20110129, Final EIS, USFS, ID, Robo Elk Project, Proposes Watershed Improvement, Timber Harvest, Fuel Treatments, and Recreation Activities, Palouse Ranger District, Clearwater National Forest, Clearwater County, ID, Review Period Ends: 05/31/2011, Contact: Susan Shaw 208-875-1131

EIS No. 20110130, Draft Supplement, NNSA, NM, Nuclear Facility of the Chemistry and Metallurgy Research Replacement Project, To Address New Geologic Information Regarding Seismic Conditions at the Site, Los Alamos National Laboratory, Los Alamos, NM, Comment Period Ends: 06/13/2011, Contact: John Tegtmeier 505-665-0113

EIS No. 20110131, Draft EIS, BOR, CA, San Joaquin River Restoration Program, A Comprehensive Long-Term Effort to Restore Flows to the San Joaquin River from Friant Dam to the Confluence of Merced River and Restore a Self-Sustaining Chinook Salmon Fishery in the River while Reducing or Avoiding Adverse Water Supply Impacts from Interim and Restoration Flows, Implementation, CA, Comment Period Ends: 06/13/2011, Contact: Michelle Banonis 916-978-5457

EIS No. 20110132, Final EIS, USFWS, HI, Palmyra Atoll National Wildlife Refuge Rat Eradication Project, Proposing to Restore and Protect the Native Species and Habitats, Implementation, Northern Line Islands, Honolulu, HI, Review Period Ends: 05/31/2011, Contact: Ben Harrison 503-231-6177

Amended Notices

EIS No. 20110004, Draft EIS, NPS, CA, Golden Gate National Recreation Area Project, Proposed Dog Management Plan, Implementation, San Francisco, CA, Comment Period Ends: 05/30/2011, Contact: Sherwin Smith 415-561-4947 Revision to FR Notice Published 01/14/2011: Extending Comment Period from 04/13/2011 to 05/30/2011

EIS No. 20110047, Draft Supplement, USN, CA, Hunters Point (Former) Naval Shipyard Disposal and Reuse, Supplement Information on the 2000 FEIS, Implementation, City of San Francisco, San Francisco County, CA, Comment Period Ends: 05/06/2011, Contact: Ronald Bochenek 619-532-0906 Revision of FR Notice Published 02/25/2011: Extending Comment Period from 04/12/2011 to 05/06/2011

Dated: April 26, 2011.
Robert W. Hargrove,
Director, NEPA Compliance Division, Office of Federal Activities.

[FR Doc. 2011-10411 Filed 4-28-11; 8:45 am]

BILLING CODE 6560-50-P